DEPARTMENT OF THE INTERIOR

Bureau of Land Management

[AA210-01-1610-01-2410]

Public Land and Resources; Planning, Programming and Budgeting

AGENCY: Bureau of Land Management; Interior.

ACTION: Notification of availability of approved land use planning manual and handbook.

SUMMARY: The Federal Land Policy and Management Act (FLPMA) and the regulations at 43 CFR part 1600 require the Bureau of Land Management (BLM) to prepare Resource Management Plans (RMPs) to provide management direction for the public lands. The objective of land use planning is to ensure that BLM lands are managed under the principles of multiple use and sustained yield (FLPMA, sec. 102 (a) (7)); in a manner that will protect the quality of scientific, scenic, historical, ecological, environmental, air and atmospheric, water resource, and archaeological values; that, where appropriate, will preserve and protect certain public lands in their natural condition; that will provide food and habitat for fish and wildlife and domestic animals; and that will provide for outdoor recreation and human occupancy and use (FLPMA, sec. 102(a)(8)); and in a manner that recognizes the Nation's need for domestic sources of minerals, food, timber, and fiber from the public lands (FLPMA, sec. 102 (a) (12)).

The Planning Manual and Handbook provide direction in implementing the requirements of FLPMA and the BLM planning regulations.

SUPPLEMENTARY INFORMATION: In addition to serving as BLM's primary tool for determining resource protection and allocations in the management of the public lands, RMPs provide the public a voice in BLM's land and resource management programs. They establish goals and objectives for resource management, measures needed to achieve them, and parameters for use.

The Land Use Planning Manual and Handbook replace earlier guidance which has been in place since the 1980s. The new guidance is necessary to address new circumstances affecting the management of public lands.

The new planning guidance differs from the earlier guidance in that it:

1. Encourages planning on a variety of scales, including both traditional RMPs at the local level and larger regional-level plans, and combinations of these across different land ownerships and jurisdictions;

2. Encourages greater public participation throughout the planning process and facilitates collaborative and multi-jurisdictional planning;

3. Clarifies the relationship between land use plans and implementation plans;

4. Provides the minimum procedural requirements for completing land use plans and implementation plans;

5. Clarifies the relationships between land use plan and NEPA requirements;

6. Addresses new requirements and approaches for managing public lands or resources; and

7. Addresses the consideration of new information and circumstances, such as new listings of threatened and endangered species, and new requirements and standards for the protection of air and water quality.

As part of the effort to update Manual and Handbook guidance for preparing land use plans, during June and July, 2000, the Bureau of Land Management (BLM) circulated a draft Land Use Planning Manual and Handbook for BLM and public review and comment. About 115 comments were received from agencies, State and local governments, organizations, companies, and the general public. Approximately 35 comments were received from BLM employees and offices.

The goal of the review was to ensure the guidance (1) accurately reflects statutory and regulatory requirements, (2) facilitates the development of land use plans which meet resource use and protection needs, and ensures the involvement of other Federal agencies, tribes, State and local government, and the public, (3) provides an appropriate level of detail (i.e., sufficiently detailed to ensure conformance with specific planning requirements, yet provides a level of flexibility necessary to address various issues associated with individual planning efforts), and (4) is readily understandable and useable by BLM and the public.

We have carefully considered the comments received and have revised the guidance in light of the goals listed above. A summary of the comments and how they were addressed will be available shortly on BLM's Internet homepage (www.blm.gov) or by request. Because the approved Manual and Handbook are internal guidance, they are not subject to protest or appeal.

ADDRESSES: Copies of the approved land use planning manual and handbook may be obtained from the Internet at www.blm.gov; from the BLM Washington Office at the following address: BLM, Planning, Assessment and Community Support Group (WO-210), 1849 C Street, NW (LS-1050), Washington, DC 20240-0001; or from any BLM State Office or Field Office.

FOR FURTHER INFORMATION CONTACT: Ted Milesnick at (202) 452-7727, Ann Aldrich at (202) 452-7722, or Paul Politzer at (202) 452-0349.

Dated: December 22, 2000.
Henri R. Besson,
Assistant Director, Renewable Resources and Planning.

[FR Doc. 01-192 Filed 1-8-01; 8:45 am]

BILLING CODE 4310-84-P